DEPARTMENT OF HEALTH AND HUMAN SERVICES

Agency for Healthcare Research and Quality

Agency Information Collection Activities: Proposed Collection; Comment Request

AGENCY: Agency for Healthcare Research and Quality, Department of Health and Human Services.

ACTION: Notice.

SUMMARY: This notice announces the intention of the Agency for Healthcare Research and Quality (AHRQ) to request that the Office of Management and Budget (OMB) allow the renewal of the generic information collection project: “Questionnaire and Data Collection Testing, Evaluation, and Research for the Agency for Healthcare Research and Quality.” In accordance with the Paperwork Reduction Act of 1995, Public Law 104-13 (44 U.S.C. 3506(c)(2)(A)), AHRQ invites the public to comment on this proposed information collection.

This proposed information collection was previously published in the Federal Register on August 15, 2007 and allowed 60 days for public comment. No comments were received. A 30-day Federal Register notice was published on October 19, 2007 to allow an additional 30 days for public comment. No comments were received. However, changes to the estimated annual respondent burden hours and the methodologies that will be used for the data collection require an additional 30 days for public comment.

DATES: Comments on this notice must be received by January 7, 2008.

ADDRESSES: Written comments should be submitted to: AHRQ's OMB Desk Officer by fax at (202) 395-6974 (attention: AHRQ's desk officer) or by e-mail at OIRA_submission@omb.eop.gov (attention: AHRQ's desk officer).

Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

“Questionnaire and Data Collection Testing, Evaluation, and Research for the Agency for Healthcare Research and Quality.”

AHRQ plans to employ the latest techniques to improve its current data collections by developing new surveys, or information collection tools and methods, and by revising existing collections in anticipation of, or in response to, changes in the healthcare field, for a three-year period. The clearance request is limited to research on information collection tools and methods, and related reports and does not extend to the collection of data for public release.

A generic clearance for this work allows AHRQ to draft and test information collection tools and methods more quickly, thereby managing project time more efficiently and improving the quality of the methodological data the agency collects.

In some instances the ability to pre-test/pilot-test information collection surveys, tool and methods, in anticipation of work, or early in a project, may result in the decision not to proceed with particular survey activities. This would save both public and private resources and effectively eliminate or reduce respondent burden.

Many of the tools AHRQ develops are made available to users in the private sector. The health care environment changes rapidly and requires a quick response from the agency to provide appropriately refined tools. A generic clearance for this methodological work will facilitate the agency's timely development of information collection tools and methods suitable for use in changing conditions.

It is particularly important to refine AHRQ's tools because they have a widespread impact. This tools are frequently made available to help the private sector to improve health care quality by enabling the gathering of useful data for analysis. They are also used to provide information about health care quality to consumers and purchasers so that they can make marketplace choices to influence and improve health care quality. The current clearance will expire January 31, 2008. This is a request for a generic approval from OMB to test information collection instruments and methods over the next three years.

Methods of Collection

Participation in the testing of information collection tools and methods will be fully voluntary and non-participation will have no affect on eligibility for, or receipt of, future AHRQ health services research support or on future opportunities to participate in research or to obtain information research results. Specific estimation procedures, when used, will be described when we notify OMB as to actual studies conducted under the clearance.

Estimated Annual Respondent Burden

Exhibit 1.—Estimated Annualized Burden Hours
Type of information collection | Number of respondents | Number of responses per respondent | Hours per response | Total burden hours
Mail/e-mail* | 8,000 | 1 | 20/60 | 2,667
Telephone | 200 | 1 | 40/60 | 134
Web-based | 2,000 | 1 | 10/60 | 334
Focus Groups | 100 | 1 | 2.0 | 200
In-person | 200 | 1 | 1.0 | 200
Automated** | 500 | 1 | 1.0 | 500
Cognitive Lab Experiments | 200 | 1 | 1.5
300
Totals | 11,200 | na | na | 4,335
* May include telephone non-response follow-up in which case the burden will not change.
** May include testing of database software, CAPI software or other automated technologies.

Exhibit 2.—Estimated Annualized Cost Burden
Type of information collection | Number of respondents | Total burden hours | Average hourly wage rate* | Total cost burden
Mail/e-mail* | 8,000 | 2,667 | $30.00 | $80,010
Telephone | 200 | 134 | 30.00 | 4,020
Web-based | 2,000 | 334 | 30.00 | 10,020
Focus Groups | 100 | 200 | 30.00 | 6,000
In-person | 200 | 200 | 30.00 | 6,000
Automated** | 500 | 500 | 30.00 | 15,000
Cognitive Lab Experiments | 200 | 300 | 30.00 | 9,000
Totals | 11,200 | 4,335 | 30.00 | 130,050
* May include telephone non-response follow-up in which case the burden will not change.
** May include testing of database software, CAPI software or other automated technologies.

This information collection will not impose a cost burden on the respondents beyond that associated with their time to provide the required data. There will be no additional costs for capital equipment, software, computer services, etc.

Estimated Annual Costs to the Federal Government

Information collections conducted under this generic clearance will in some cases be carried out under contract. Assuming four data collections per year (either mail/e-mail, telephone, web-based or in-person) at an average cost of $150,000 each, and two focus groups, automated data collections or lab experiments at an average cost of $20,000 each, total contract costs could be $640,000 per year.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: November 29, 2007.
Carolyn M. Clancy,
Director.

[FR Doc. 07-5950 Filed 12-05-07; 8:45 am]

BILLING CODE 4160-90-M